DEPARTMENT OF TRANSPORTATION

Federal Aviation Administration

Notice of Intent To Rule on Request To Transfer Airport Property at Clinton-Sherman Industrial Airpark, From the City of Clinton, OK, to the Oklahoma Space Industry Development Authority, a State Agency

AGENCY: Federal Aviation Administration (FAA), DOT.

ACTION: Notice of Request To Release Airport Property.

SUMMARY: the FAA proposes to rule and invites public comment on the transfer of airport land at Clinton-Sherman Airpark under the provisions of Title 49 United States Code, Section 47153.

DATES: Comments must be received on or before September 18, 2006.

ADDRESSES: Comments on this application may be mailed or delivered to the FAA at the following address: Mr. Edward Agnew, Manager, Federal Aviation Administration, Southwest Region, Airports Division, Arkansas/Oklahoma Airports Development Office, ASW-630, Fort Worth, Texas 76193-0630.

In addition, one copy of any comments submitted to the FAA must be mailed or delivered to Mr. Grayson Bottom, City Manager, City of Clinton, and Mr. Bill Khourie, Executive Director, Oklahoma Space Industry Development Authority at the following addresses:

City of Clinton, P.O. Box 1177, Clinton, Oklahoma 73601.

Oklahoma Space Industry Development Authority, 501 Sooner Drive, Burns Flat, Oklahoma 73624.

FOR FURTHER INFORMATION CONTACT: Mr. Bill Bell, Program Manager, Federal Aviation Administration, Southwest Region, Airports Division, Arkansas/Oklahoma Airports Development Office, ASW-630, Fort Worth, Texas 76193-.

The request to transfer airport property may be reviewed in person at this same location.

SUPPLEMENTARY INFORMATION: The FAA invites public comment on the request to transfer property at Clinton-Sherman Airpark under the provisions of the Act.

On August 10, 2006, the FAA determined that the request to transfer property at Clinton-Sherman Airpark submitted by the City of Clinton and Oklahoma Space Industry Development Authority met agency requirements. The FAA may approve the request, in whole or in part, no later than October 1, 2006.

The following is a brief overview of the request:

On October 9, 2003, the City of Clinton, Oklahoma requested the transfer of surface rights of the Clinton-Sherman Airpark to the Oklahoma Space Industry Development Authority (OSIDA). The transfer will enable the State of Oklahoma to expend state funds for capital improvements on the Clinton-Sherman Airpark. OSIDA completed an environmental assessment and FAA issued a Finding of No Significant Impact on May 5, 2006. On June 12, 2006, FAA issued OSIDA Launch Site Operator License LSO 06-010. The subject airport land is subject to covenants prescribed in the release indenture dated June 25, 1971 and grant agreement covenants. The application specifies OSIDA will continue operating the Clinton-Sherman Airport as a public airport for the benefit of civil aviation.

Any person may inspect the request in person at the FAA office listed above under FOR FURTHER INFORMATION CONTACT.

In addition, any person may, upon request, inspect the application, notice and other documents germane to the application in person at the City of Clinton City Manager's Office.

Issued in Fort Worth, Texas on August 11, 2006.
Kelvin L. Solco,
Manager, Airports Division.

[FR Doc. 06-6989 Filed 8-16-06; 8:45 am]

BILLING CODE 4910-13-M